DEPARTMENT OF COMMERCE

International Trade Administration

[A-357-810; A-475-816; A-588-835; A-580-825]

Final Results of Expedited Sunset Reviews: Oil Country Tubular Goods From Argentina, Italy, Japan, and Korea

AGENCY: Import Administration, International Trade Administration, Department of Commerce.

ACTION: Notice of Final Results of Expedited Sunset Reviews: Oil Country Tubular Goods from Argentina, Italy, Japan, and Korea.

SUMMARY: On July 3, 2000, the Department of Commerce (“the Department”) initiated sunset reviews of the antidumping duty orders on oil country tubular goods from Argentina, Italy, Japan, and Korea (65 FR 41053) pursuant to section 751(c) of the Tariff Act of 1930, as amended (“the Act”). On the basis of notices of intent to participate and adequate substantive responses filed on behalf of U.S. Steel Group, a unit of USX Corporation, IPSCO Tubulars, Inc., Lone Star Steel Company, Maverick Tube Corporation, Newport Steel and Koppel Steel Divisions of NS Group, Grant-Prideco, and North Star Steel Ohio (collectively, “domestic interested parties”), and inadequate responses (in the Italy, Japan, and Korea cases, no responses) from respondent interested parties, the Department determined to conduct expedited reviews. As a result of these reviews, the Department finds that revocation of the antidumping duty orders would be likely to lead to continuation or recurrence of dumping at the levels indicated in the Final Results of Reviews section of this notice.

For Further Information Contact: John P. Maloney, Jr. or James P. Maeder, Jr., Office of Policy for Import Administration, International Trade Administration, U.S. Department of Commerce, 14th Street and Constitution Avenue, NW, Washington, D.C. 20230; telephone: (202) 482-1503 or (202) 482-3330, respectively.

Effective Date: November 7, 2000.

Statute and Regulations

These reviews were conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”), and in 19 CFR Part 351 (1999) in general. Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Background

On July 3, 2000, the Department initiated sunset reviews of the antidumping duty orders on oil country tubular goods (“OCTG”) from Argentina, Italy, Japan, and Korea (65 FR 41053), pursuant to section 751(c) of the Act. The Department received a notice of intent to participate on behalf of U.S. Steel group, a unit of USX Corporation, IPSCO Tubulars, Inc., Lone Star Steel Company, Maverick Tube Corporation, Newport Steel and Koppel Steel Divisions of NS Group, Grant-Prideco, and North Star Steel Ohio (collectively, “domestic interested parties”), within the applicable deadline (July 18, 2000) specified in section 351.218(d)(1)(i) of the Sunset Regulations. Domestic interested parties claimed interested-party status under section 771(9)(C) of the Act, as manufacturers, producers, or wholesalers in the United States of a domestic like product.

On August 2, 2000, we received substantive responses on behalf of domestic interested parties and, in the Argentina case, on behalf of Siderca SAIC (“Siderca”). Siderca is an interested party pursuant to section 771(9)(A) of the Act as a foreign producer and exporter of the subject merchandise.

On August 7, 2000, we received rebuttal comments on behalf of domestic interested parties in response to Siderca's comments.

Scope of Review of Oil Country Tubular Goods From Argentina

Oil country tubular goods are hollow steel products of circular cross-section, including oil well casing, tubing, and drill pipe, of iron (other than cast iron) or steel (both carbon and alloy), whether seamless or welded, whether or not conforming to American Petroleum Institute (API) or non-API specifications, whether finished or unfinished (including green tubes and limited-service OCTG products). This scope does not cover casing, tubing, or drill pipe containing 10.5 percent or more of chromium. The OCTG subject to this review are currently classified in the following Harmonized Tariff Schedule of the United States (HTSUS) subheadings: 7304.20.20, 7304.20.40, 7304.20.50, 7304.20.60, 7304.20.80, 7304.39.00, 7304.51.50, 7304.20.70, 7304.59.60, 7304.59.80, 7304.90.70, 7305.20.40, 7305.20.60, 7305.20.80, 7305.31.40, 7305.31.60, 7305.39.10, 7305.39.50, 7305.90.10, 7305.90.50, 7306.20.20, 7306.20.30, 7306.20.40, 7306.20.60, 7306.20.80, 7306.30.50, 7306.50.50, 7306.60.70, 7306.90.10. The HTSUS subheadings are provided for convenience and Customs purposes. The written description remains dispositive.

Scope of Review of Oil Country Tubular Goods From Italy

Oil country tubular goods are hollow steel products of circular cross-section, including only oil well casing and tubing, of iron (other than cast iron) or steel (both carbon and alloy), whether seamless or welded, whether or not conforming to American Petroleum Institute (API) or non-API specifications, whether finished or unfinished (including green tubes and limited service OCTG products). This scope does not cover casing or tubing pipe containing 10.5 percent or more of chromium, or drill pipe. The products subject to this review are currently classified in the following Harmonized Tariff Schedule of the United States (HTSUS) subheadings: 7304.20.10.10, 7304.20.10.20, 7304.20.10.30, 7304.20.10.40, 7304.20.10.50, 7304.20.10.60, 7304.20.10.80, 7304.20.20.10, 7304.20.20.20, 7304.20.20.30, 7304.20.20.40, 7304.20.20.50, 7304.20.20.60, 7304.20.20.80, 7304.20.30.10, 7304.20.30.20, 7304.20.30.30, 7304.20.30.40, 7304.20.30.50, 7304.20.30.60, 7304.20.30.80, 7304.20.40.10, 7304.20.40.20, 7304.20.40.30, 7304.20.40.40, 7304.20.40.50, 7304.20.40.60, 7304.20.40.80, 7304.20.50.15, 7304.20.50.30, 7304.20.50.45, 7304.20.50.60, 7304.20.50.75, 7304.20.60.15, 7304.20.60.30, 7304.20.60.45, 7304.20.60.60, 7304.20.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. The HTSUS subheadings are provided for convenience and Customs purposes. The written description remains dispositive.

Scope of Review of Oil Country Tubular Goods From Japan

Oil country tubular goods are hollow steel products of circular cross-section, including oil well casing, tubing, and drill pipe, of iron (other than cast iron) or steel (both carbon and alloy), whether seamless or welded, whether or not conforming to American Petroleum Institute (API) or non-API specifications, whether finished or unfinished (including green tubes and limited-service OCTG products). This scope does not cover casing, tubing, or drill pipe containing 10.5 percent or more of chromium. The OCTG subject to this review are currently classified in the following Harmonized Tariff Schedule of the United States (HTSUS) subheadings: 7304.21.30.00, 7304.21.60.30, 7304.21.60.45, 7304.21.60.60, 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. The HTSUS subheadings are provided for convenience and Customs purposes. The written description remains dispositive.

Scope of Review of Oil Country Tubular Goods From Korea

Oil country tubular goods are hollow steel products of circular cross-section, including only oil well casing and tubing, of iron (other than cast iron) or steel (both carbon and alloy), whether seamless or welded, whether or not conforming to American Petroleum Institute (API) or non-API specifications, whether finished or unfinished (including green tubes and limited service OCTG products). This scope does not cover casing or tubing pipe containing 10.5 percent or more of chromium, or drill pipe. The products subject to this review are currently classified in the following Harmonized Tariff Schedule of the United States (HTSUS) subheadings: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. The HTSUS subheadings are provided for convenience and Customs purposes. The written description remains dispositive.

History of the Orders

In the original investigations, covering the period January 1, 1994, through June 30, 1994, the Department determined the following dumping margins: 1.36 percent for Siderca, the Argentine respondent, and 1.36 percent for “all others” (60 FR 33539); 49.78 percent for Dalmine S.p.A. (“Dalmine”), Acciaierie Tubificio Arvedi S.p.A., and General Sider Europa S.p.A., the Italian respondents, and 49.78 percent for “all others” (60 FR 33558); 44.20 percent for Nippon Steel Corporation and Sumitomo Metal Industries, Ltd. (“Sumitomo”), the Japanese respondents, and 44.20 percent for “all others” (60 FR 33560); and 12.17 percent for Union Steel Manufacturing Company, one of the Korean respondents,¹ and 12.17 percent for “all others” (60 FR 33561).

¹ Hyundai Steel Pipe Company, Ltd., the other respondent, was excluded from the antidumping duty order. See Antidumping Duty Order: Oil Country Tubular goods from Korea. 61 FR 41057, 41058 (August 11, 1995).

The Department has not conducted an administrative review of the orders on OCTG from Argentina or Italy since the issuance of these orders. However, there have been two administrative reviews of the order on OCTG from Japan. In the first, covering the period February 2, 1995, though July 31, 1996, NKK Corporation of Japan was assigned a margin of 44.20 percent. In the second, covering the period August 1, 1997, through July 31, 1998, Sumitomo was assigned a margin of 0.00 percent. In addition, there have been two administrative reviews of the order on OCTG from Korea. In the first, covering the period August 1, 1996, through July 31, 1997, SeAH Steel Corporation (“SeAH”) was assigned a margin of 2.93 percent. In the second, covering the period August 1, 1997, through July 31, 1998, SeAH was assigned a margin of 15.02 percent.

Analysis of Comments Received

All issues raised by parties to these sunset reviews are addressed in the “Issues and Decision Memorandum” (“Decision Memo”) from Jeffrey A. May, Director, Office of Policy, Import Administration, to Troy H. Cribb, Assistant Secretary for Import Administration, dated October 31, 2000, which is hereby adopted by this notice. The issues discussed in the Decision Memo include the likelihood of continuation or recurrence of dumping and the magnitude of the margins likely to prevail were the orders revoked. Parties can find a complete discussion of all issues raised in these reviews and the corresponding recommendations in this public memorandum which is on file in the Central Records Unit, room B-099, of the main Commerce building.

In addition, a complete version of the Decision Memo can be accessed directly on the Web at http:/ia.ita.doc.gov/frn, under the heading “October 2000.” The paper copy and electronic version of the Decision Memo are identical in content.

Final Results of Reviews

We determine that revocation of the antidumping duty orders on oil country tubular goods from Argentina, Italy, Japan, and Korea would likely lead to continuation or recurrence of dumping at the following percentage weighted-average margins:

Country | Manufacturer/exporter | Margin (percent)
Argentina | Siderca SAIC | 1.36
| All Others | 1.36
Italy | Dalmine S.p.A. | 49.78
| Acciaierie Tubificio Arvedi S.p.A. | 49.78
| General Sider Europa S.p.A. | 49.78
| All Others | 49.78
Japan | Nippon Steel Corporation | 44.20
| Sumitomo Metal Industries, Ltd. | 44.20
| All Others | 44.20
Korea | Union Steel Manufacturing Co. | 12.17
| All Others ² | 12.17

This notice serves as the only reminder to parties subject to administrative protective order (“APO”) of their responsibility concerning the disposition of proprietary information disclosed under APO in accordance with 19 CFR 351.305 of the Department's regulations. Timely notification of return/destruction of APO materials or conversion to judicial protective order is hereby requested. Failure to comply with the regulations and the terms of an APO is a sanctionable violation.

² Hyundai Steel Pipe Company, Ltd., a respondent in the investigation, was excluded from the antidumping duty order. See Antidumping Duty Order: Oil Country Tubular Goods from Korea, 61 FR 41057, 41058 (August 11, 1995).

These five-year (“sunset”) reviews and notice are in accordance with sections 751(c), 752, and 777(i)(1) of the Act.

Dated: October 31, 2000.
Troy H. Cribb,
Assistant Secretary for Import Administration.

[FR Doc. 00-28566 Filed 11-6-00; 8:45 am]

BILLING CODE 3510-DS -P